DEPARTMENT OF ENERGY

Federal Energy Regulatory Commission

Combined Notice of Filings #1

May 6, 2008.

Take notice that the Commission received the following electric corporate filings:

Docket Numbers: ER08-649-001.

Applicants: EFS Parlin Holdings LLC.

Description: EFS Parlin Holdings, LLC submits Market-Based rate Authority and Request for Waivers and Pre-Approvals revisions to Attachment 1 to its March 10th filing.

Filed Date: 04/25/2008.

Accession Number: 20080429-0106.

Comment Date: 5 p.m. Eastern Time on Friday, May 16, 2008.

Docket Numbers: ER08-831-000.

Applicants: Progress Energy, Inc.

Description: Carolina Power & Light Co submit proposed modifications to the Joint OATT effective 6/10/08.

Filed Date: 04/14/2008.

Accession Number: 20080417-0197.

Comment Date: 5 p.m. Eastern Time on Monday, May 05, 2008.

Docket Numbers: ER08-865-000.

Applicants: Pacific Gas and Electric Company.

Description: Pacific Gas and Electric Co submits the agreements for load interconnection facilities with the City and County of San Francisco under ER08-865.

Filed Date: 04/25/2008.

Accession Number: 20080501-0152.

Comment Date: 5 p.m. Eastern Time on Friday, May 16, 2008.

Docket Numbers: ER08-879-000.

Applicants: Entergy Services, Inc.

Description: Entergy Services, Inc submits an amended Interconnection and Operating Agreement between Sabine Cogen L.P. and EGS and a corrected copy of the Service Agreement designation page.

Filed Date: 04/29/2008.

Accession Number: 20080501-0063.

Comment Date: 5 p.m. Eastern Time on Tuesday, May 20, 2008.

Docket Numbers: ER08-880-000.

Applicants: Arizona Public Service Company.

Description: Arizona Public Service Company submits certain additional exhibits to a 1991 Operation, Maintenance, and Replacement of Facilities Agreement with Western Area Power Administration.

Filed Date: 04/29/2008.

Accession Number: 20080501-0055.

Comment Date: 5 p.m. Eastern Time on Tuesday, May 20, 2008.

Docket Numbers: ER08-881-000.

Applicants: Wisconsin Power and Light Company.

Description: Wisconsin Power and Light Company submits proposed changes to their book depreciation rates related to all depreciable assets including non-nuclear production plant.

Filed Date: 04/29/2008.

Accession Number: 20080501-0062.

Comment Date: 5 p.m. Eastern Time on Tuesday, May 20, 2008.

Docket Numbers: ER08-882-000.

Applicants: California Power Exchange Corporation.

Description: California Power Exchange Corporation submits proposed amendments to its Rate Schedule 1 in order to recover projected expenses for the period July 1, 2008 through December 31, 2008.

Filed Date: 04/29/2008.

Accession Number: 20080501-0061.

Comment Date: 5 p.m. Eastern Time on Tuesday, May 20, 2008.

Docket Numbers: ER08-883-000.

Applicants: Xcel Energy Services Inc.

Description: On behalf of Northern States Power Company submits Notice of Cancellation for 113 legacy transmission service agreements etc.

Filed Date: 04/28/2008.

Accession Number: 20080501-0065.

Comment Date: 5 p.m. Eastern Time on Monday, May 19, 2008.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov. or call (866) 208-3676 (toll free). For TTY, call (202) 502-8659.

Nathaniel J. Davis, Sr.,
Deputy Secretary.

[FR Doc. E8-10644 Filed 5-12-08; 8:45 am]

BILLING CODE 6717-01-P